DEPARTMENT OF ENERGY

[EERE-2023-BT-CE-0001]

Energy Conservation Program: Proposed Agency Information Collection Revision

AGENCY: Office of Energy Efficiency and Renewable Energy, Department of Energy.

ACTION: Submission for Office of Management and Budget (OMB) review; comment request.

SUMMARY: The Department of Energy (DOE) has submitted an information collection request to the OMB for extension under the provisions of the Paperwork Reduction Act of 1995. The information collection requests a three-year extension of its Certification Reports, Compliance Statements, Application for a Test Procedure Waiver, and Recordkeeping for Consumer Products and Commercial/Industrial Equipment subject to Energy or Water Conservation Standards Package under OMB No. 1910-1400.

DATES: Comments regarding this collection must be received on or before November 1, 2024. If you anticipate that you will be submitting comments but find it difficult to do so within the period allowed by this notice, please advise the OMB Desk Officer of your intention to make a submission as soon as possible. The Desk Officer may be telephoned at 202-881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ms. Laura Degitz, U.S. Department of Energy, Office of Energy Efficiency and Renewable Energy, Building Technologies Office, EE-5B, 1000 Independence Avenue SW, Washington, DC 20585-0121. Telephone: (240) 686-9463. Email ProductEquipmentCert2023CE0001@ee.doe.gov.

SUPPLEMENTARY INFORMATION: The Paperwork Reduction Act of 1995, as amended (PRA), 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On September 26, 2023, DOE published a 60-day notice in the Federal Register soliciting comment on the information collection request for which it is now seeking OMB approval. See 88 FR 65994. The proposed collection would cover all covered products and equipment subject to DOE's regulatory requirements described in 10 CFR parts 429, 430, and 431. DOE received two, identical comments from the Association of Home Appliance Manufacturers (AHAM). These comments are discussed in the following paragraphs.

DOE requested comments on whether the proposed collection of information is necessary for the proper performance of the functions of the agency, including whether the information shall have practical utility. AHAM generally supported DOE's proposed extension for three years with the Office of Management and Budget (OMB), under OMB No. 1910-1400. AHAM stated that DOE should ensure that its information collections are restricted to data necessary to demonstrating compliance with standards. If DOE wishes to collect data for future energy conservation standards rulemaking efforts or for its own information, DOE should collect that data through its energy conservation standard rulemaking process and not through the certification, compliance, and enforcement process. AHAM also suggested that DOE can always seek such data from manufacturers under its authority to request records. (AHAM, No. 9 at pp. 1-2, AHAM, No. 19 at pp. 1-2) ¹

¹ The parenthetical reference provides a reference for information located in the docket of DOE's information collection request for a three-year extension under OMB No. 1910-1400 (Docket No. EERE-2023-BT-CE-0001), which is maintained at www.regulations.gov). The references are arranged as follows: (commenter name, comment docket ID number, page of that document).

Section 326(d) of EPCA states that the Secretary may require manufacturers to submit information or reports to Secretary with respect to energy efficiency or energy use as the Secretary determines may be necessary to establish and revise test procedures, labeling rules, and energy conservation standards for such products and to ensure compliance with requirements of this part. (42 U.S.C. 6296(d)(1)) This language provides DOE with the authority to require manufacturers to submit information pertaining to the energy efficiency or energy use where it is necessary when establishing or revising its standards or test procedures as well as to ensure compliance. As such, DOE disagrees with AHAM's assessment that DOE must limit its collection requirements to information needed to determine compliance.

On September 29, 2023, DOE published a notice of proposed rulemaking (“Certification NOPR”) to amend the certification, reporting, and labeling requirements for the products and equipment that are the subjects of this information collection request. 88 FR 67458 AHAM opposed specific proposals in the September 2023 NOPR related to dishwashers, battery chargers, and room air cleaners. (AHAM, No. 9 at p. 2, AHAM, No. 19 at p. 2) DOE is not considering amending its certification regulations as part of this notice. However, DOE addressed AHAM's comments as part of its final rule on certification, reporting, and labeling requirements.²

² See the “Current and Past Rulemakings” section of DOE's Implementation, Certification and Enforcement web page. https://www.energy.gov/eere/buildings/implementation-certification-and-enforcement.

DOE requested comments on the accuracy of the agency's estimate of the burden of the proposed collection of information, including the validity of the methodology and assumptions used. DOE did not receive comments regarding the accuracy of its burden of the information collection activities estimates. Therefore, DOE has not modified those estimates in this notice.

DOE requested comments on ways to enhance the quality, utility, and clarity of the information to be collected. AHAM commented that consistent, clear, transparent certification criteria are a critical part of the program. AHAM appreciates DOE's proposals that are aimed at ensuring consistency between testing to support certification and testing DOE does to support its enforcement efforts. AHAM also supported DOE's proposals to ensure consistency in reported data between similar products. (AHAM, No. 9 at p. 1, AHAM, No. 19 at p. 1)

DOE requested comments on ways to minimize the burden of the collection of information on respondents, including through the use of automated collection techniques or other forms of information technology. DOE did not receive any comments on ways to minimize the collection burden.

This information collection request contains:

(1) OMB No.: 1910-1400;

(2) Information Collection Request Title: Certification Reports, Compliance Statements, Application for a Test Procedure Waiver, Application for Extension of Representation Requirements, Labeling, and Recordkeeping for Consumer Products and Commercial/Industrial Equipment subject to Federal Energy or Water Conservation Standards;

(3) Type of Request: Revision;

(4) Purpose:

Pursuant to the Energy Policy and Conservation Act, as amended (“EPCA” or “the Act”),³ Public Law 94-163 (42 U.S.C. 6291-6317, as codified), DOE regulates the energy efficiency of a number of consumer products, and commercial and industrial equipment. Title III, Part B ⁴ of EPCA established the Energy Conservation Program for Consumer Products Other Than Automobiles, which sets forth a variety of provisions designed to improve energy efficiency of covered consumer products (“covered products”). Title III, Part C ⁵ of EPCA, added by Public Law 95-619, Title IV, section 441(a), established the Energy Conservation Program for Certain Industrial Equipment, which sets forth a variety of provisions designed to improve energy efficiency of covered commercial and industrial equipment (collectively referred to as “covered equipment”).

³ All references to EPCA in this document refer to the statute as amended through the Energy Act of 2020, Public Law 116-260 (Dec. 27, 2020), which reflect the last statutory amendments that impact Parts A and A-1 of EPCA.

⁴ For editorial reasons, upon codification in the U.S. Code, Part B was redesignated Part A.

⁵ For editorial reasons, upon codification in the U.S. Code, Part C was redesignated Part A-1.

Covered products and covered equipment are described in 10 CFR parts 429, 430, and 431. These covered products and covered equipment, including all product or equipment classes, include: (1) Consumer refrigerators, refrigerator-freezers and freezers; (2) Room air conditioners; (3) Central air conditioners and central air conditioning heat pumps; (4) Consumer water heaters; (5) Consumer furnaces and boilers; (6) Dishwashers; (7) Residential clothes washers; (8) Clothes dryers; (9) Direct heating equipment; (10) Cooking products; (11) Pool heaters; (12) Television sets; (13) Fluorescent lamp ballasts; (14) General service fluorescent lamps; (15) General service lamps; ⁶ (16) Incandescent reflector lamps; (17) Faucets; (18) Showerheads; (19) Water closets; (20) Urinals; (21) Ceiling fans; (22) Ceiling fan light kits; (23) Torchieres; (24) Dehumidifiers; (25) External power supplies; (26) Battery chargers; (27) Commercial warm air furnaces; (28) Commercial refrigerators, freezers, and refrigerator-freezers; (29) Commercial heating and air conditioning equipment; ⁷ (30) Commercial water heating equipment; (31) Automatic commercial ice makers; (32) Commercial clothes washers; (33) Distribution transformers; (34) Illuminated exit signs; (35) Traffic signal modules and pedestrian modules; (36) Commercial unit heaters; (37) Commercial pre-rinse spray valves; (38) Refrigerated bottled or canned beverage vending machines; (39) Walk-in coolers and walk-in freezers and certain components; (40) Metal halide lamp ballasts and fixtures; (43) Furnace fans; (44) Pumps; (45) Commercial packaged boilers; (46) Consumer miscellaneous refrigeration equipment; (47) Portable air conditioners; (48) Compressors; (49) Electric motors; (50) Small electric motors; (51) Rough service lamps; (52) Vibration service lamps; (53) Dedicated-purpose pool pump motors; (54) Air cleaners; (55) Fans and blowers; and (56) Portable electric spas.

⁶ General service lamps include, but are not limited to, general service incandescent lamps, compact fluorescent lamps, general service light-emitting diode lamps, and general service organic light emitting diode lamps.

⁷ Commercial heating and air conditioning equipment includes Computer Room Air Conditioners; Air-Cooled, Three-Phase, Small Commercial Air Conditioners and Heat Pumps w/a Cooling Capacity of Less Than 65,000 Btu/h and Air-Cooled, Three-Phase Variable Refrigerant Flow Air Conditioners and Heat Pumps w/a Cooling Capacity of Less Than 65,000 Btu/h; Single Packaged Vertical Air Conditioners and Heat Pumps; and Direct-expansion Dedicated Outdoor Air Systems.

Under EPCA, DOE's energy conservation program consists essentially of four parts: (1) Testing, (2) Labeling, (3) Federal energy conservation standards, and (4) Certification and enforcement procedures. For consumer products, relevant provisions of the Act specifically include definitions (42 U.S.C. 6291), energy conservation standards (42 U.S.C. 6295), test procedures (42 U.S.C. 6293), labeling provisions (42 U.S.C. 6294), and the authority to require information and reports from manufacturers (42 U.S.C. 6296). For covered equipment, relevant provisions of the Act include definitions (42 U.S.C. 6311), energy conservation standards (42 U.S.C. 6313), test procedures (42 U.S.C. 6314), labeling provisions (42 U.S.C. 6315), and the authority to require information and reports from manufacturers (42 U.S.C. 6316).

DOE is seeking to renew its information collection related to the following aspects of the appliance standards program: (1) Gathering data and submitting certification and compliance reports for each basic model distributed in commerce in the U.S. including supplemental testing instructions for certain commercial equipment; (2) maintaining records underlying the certified ratings for each basic model including test data and the associated calculations; (3) applications for a test procedure waiver, which manufacturers may elect to submit if they manufacture a basic model that cannot be tested pursuant to the DOE test procedure; (4) applications requesting an extension of the date by which representations must be made in accordance with any new or amended DOE test procedure; and (5) labeling.

DOE's certification and compliance activities ensure accurate and comprehensive information about the energy and water use characteristics of covered products and covered equipment sold in the United States. Manufacturers of all covered products and covered equipment must submit a certification report before a basic model is distributed in commerce, annually thereafter, and if the basic model is redesigned in such a manner to increase the consumption or decrease the efficiency of the basic model such that the certified rating is no longer supported by the test data. Additionally, manufacturers must report when production of a basic model has ceased and is no longer offered for sale as part of the next annual certification report following such cessation. DOE requires the manufacturer of any covered product or covered equipment to establish, maintain, and retain the records of certification reports, of the underlying test data for all certification testing, and of any other testing conducted to satisfy the requirements of part 429, part 430, and/or part 431. Certification reports provide DOE and consumers with comprehensive, up-to-date efficiency information and support effective enforcement.

As the result of a several changes to its regulatory provisions for covered products and equipment enacted through rulemakings since the last review of the current information collection, DOE has also proposed and subsequently adopted several updates to its certification provisions for the affected products and equipment.⁸ The total annual estimated respondents, responses, burden hours, and reporting and recordkeeping cost burden that are reported in this notice include the additional costs that DOE estimated would result from the changes to certification reporting requirements adopted in the Certification Final Rule.

⁸ See the “Current and Past Rulemakings” section of DOE's Implementation, Certification and Enforcement web page. https://www.energy.gov/eere/buildings/implementation-certification-and-enforcement.

(5) Proposed changes to the information collection, including description of additional information that would be collected.

In the Certification Final Rule DOE established and amended the certification provisions, labeling requirements, and enforcement provisions for the following products and equipment: central air conditioners and heat pumps; dishwashers; residential clothes washers; pool heaters; dehumidifiers; external power supplies; battery chargers; computer room air conditioners; direct-expansion outdoor air systems; three-phase, less than 65,000 Btu/h, air cooled commercial air conditioners and heat pumps and three-phase, less than 65,000 Btu/h variable refrigerant flow air conditioners and heat pumps; commercial water heating equipment; automatic commercial ice makers; walk-in coolers and freezers; commercial and industrial pumps; portable air conditioners; compressors; dedicated-purpose pool pump motors; air cleaners; single-package vertical air conditioners and heat pumps; and ceiling fan light kits. DOE adopted these amendments to align reporting that is consistent with currently applicable energy conservation standards and test procedures and to ensure DOE has the information necessary to determine the appropriate classification of products for the application of standards.

(6) Annual Estimated Number of Respondents: 2,083;

(7) Annual Estimated Number of Total Responses: 32,243;

(8) Annual Estimated Number of Burden Hours: 775,965 (35 hours per certification, including the time for reviewing instructions, searching existing data sources, gathering and maintaining the data needed, and completing and reviewing the collection of information; 16 additional hours for creating supplement testing instructions for commercial HVAC, water heating, and refrigeration equipment manufacturers; 160 hours for test procedure waiver preparation; 160 hours for representation extension request preparation), 1 hour for creating and applying a label for walk-in cooler and freezer, commercial and industrial pump, and electric motor manufacturers).

(9) Annual Estimated Reporting and Recordkeeping Cost Burden: $56,645,445.00.

Statutory Authority: Section 326(d) of the Energy Policy and Conservation Act, Public Law 94-163, as amended (42 U.S.C. 6296); 10 CFR parts 429, 430, and 431.

Signing Authority

This document of the Department of Energy was signed on September 27, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 27, 2024.
Treena V. Garrett,
Federal Register Liaison Officer, U.S. Department of Energy.

[FR Doc. 2024-22604 Filed 10-1-24; 8:45 am]

BILLING CODE 6450-01-P